ENVIRONMENTAL PROTECTION AGENCY

40 CFR Part 52

[TX-164-1-7621; FRL-7558-2]

Approval and Promulgation of Implementation Plans; Texas; Control of Emission of Oxides of Nitrogen From Cement Kilns

AGENCY: Environmental Protection Agency (EPA).

ACTION: Direct final rule; withdrawal.

SUMMARY: On July 30, 2003, EPA published a direct final rule (68 FR 44631) approving revisions to the Texas State Implementation Plan (SIP) concerning Control of Air Pollution from Nitrogen Compounds, Cement Kilns. The revision was based on a request from the State of Texas submitted to EPA on April 2, 2003. In the proposed rules section of the July 30, 2003, Federal Register (68 FR 44714), we stated that written comment must be received by August 29, 2003. On August 28, 2003, we received written adverse comments on our July 30, 2003, rulemaking action. The EPA is withdrawing this final rule due to the adverse comments received on this rulemaking action. In a subsequent final rule, we will summarize and respond to written comments received and take final rulemaking action on this requested Texas SIP revision.

DATES: The direct final rule published at 68 FR 44631 is withdrawn on September 15, 2003.

ADDRESSES: Copies of the documents relevant to this action are available for public inspection during normal business hours at the following location: Environmental Protection Agency, Region 6, Air Planning Section (6PD-L), 1445 Ross Avenue, Dallas, Texas 75202-2733.

FOR FURTHER INFORMATION CONTACT: Mr. Alan Shar, Air Planning Section (6PD-L), EPA Region 6, 1445 Ross Avenue, Dallas, Texas 75202-2733, telephone (214) 665-6691, and shar.alan@epa.gov.

List of Subjects in 40 CFR Part 52

Environmental protection, Air pollution control, Cement kiln, Intergovernmental relations, Reporting and recordkeeping requirements, Volatile organic compounds.

Dated: September 5, 2003.
Richard E. Greene,
Regional Administrator, Region 6.

Accordingly, under the authority of 42 U.S.C 7401-7671q, the direct final rule published on July 30, 2003 (68 FR 44631), with the effective date of September 29, 2003, is withdrawn.

[FR Doc. 03-23270 Filed 9-12-03; 8:45 am]

BILLING CODE 6560-50-P